Title 3—

The President

Proclamation 8007 of April 26, 2006

National Charter Schools Week, 2006

By the President of the United States of America

A Proclamation

Education is the gateway to a brighter future for our children and our Nation. During National Charter Schools Week, we celebrate charter schools' commitment to academic achievement, accountability, and innovation. We recognize the vital role charter schools play in fostering an America where children have the knowledge and skills they need to grow, succeed, and achieve their dreams.

As a publicly funded alternative to traditional public schools, charter schools have expanded our understanding of public education by embracing the spirit of discovery and providing innovative avenues for success. Almost 15 years after the founding of the first charter school, more than 3,600 charter schools in 40 states and the District of Columbia are teaching more than one million students. These institutions reflect our belief in the promise of America's youth and help fulfill our moral obligation to make sure that every child has a quality education.

This year marks the fourth anniversary of the signing of the No Child Left Behind Act, which is helping schools close the achievement gap among America's youth. Using the same principles that guide No Child Left Behind, we are achieving educational excellence through charter schools by providing greater flexibility with Federal dollars and curriculum control at the local level. We are also providing parents with more information about school performance and school options and insisting on results through assessment and accountability.

In the aftermath of the devastating hurricanes that struck our Nation's Gulf Coast last year, charter schools are playing a major role in welcoming back school children affected by the storms. Because of their unique flexibility, many Gulf Coast charter schools were able to reopen quickly, and many of the public schools that have reopened in New Orleans now operate as charter schools. By enabling these children to continue their education, charter schools are helping families and demonstrating a deep compassion for America's students.

We must give every child the best opportunity to learn and succeed in life. Charter schools help prepare our next generation of leaders and help ensure that America continues to succeed in the world.

NOW, THEREFORE, I, GEORGE W. BUSH, President of the United States of America, by virtue of the authority vested in me by the Constitution and laws of the United States, do hereby proclaim April 30 through May 6, 2006, as National Charter Schools Week. I appreciate our Nation's charter schools, teachers, and administrators, and I call on parents of charter school students to share their successes and help all Americans understand more about the important work of charter schools.

IN WITNESS WHEREOF, I have hereunto set my hand this twenty-sixth day of April, in the year of our Lord two thousand six, and of the Independence of the United States of America the two hundred and thirtieth.

B

[FR Doc. 06-4131

Filed 4-28-06; 9:05 am]

Billing code 3195-01-P